DEPARTMENT OF COMMERCE

National Institute of Standards and Technology

National Fire Codes: Request for Comments on NFPA Technical Committee Reports

AGENCY: National Institute of Standards and Technology, Commerce.

ACTION: Notice.

SUMMARY: The National Fire Protection Association (NFPA) revises existing standards and adopts new standards twice a year. At its November meeting or its May meeting, the NFPA acts on recommendations made by its technical committees.

The purpose of this notice is to request comments on the technical reports that will be presented at NFPA's 2004 November meeting. The publication of this notice by the National Institute of Standards and Technology (NIST) on behalf of NFPA is being undertaken as a public service; NIST does not necessarily endorse, approve, or recommend any of the standards referenced in the notice.

DATES: Forty-three reports are published in the 2004 November Meeting Report on Proposals and will be available on January 23, 2004. Comments received on or before April 2, 2004, will be considered by the respective NFPA Committees before final action is taken on the proposals.

ADDRESSES: The 2004 November Meeting Report on Proposals is available and downloadable from NFPA's Web site— http://www/nfpa.org or by requesting a copy from the NFPA, Fulfillment Center, 11 Tracy Drive, Avon, Massachusetts 02322. Comments on the report should be submitted to Casey C. Grant, Secretary, Standards Council, NFPA, 1 Batterymarch Park, P.O. Box 9101, Quincy, Massachusetts 02269-9101.

FOR FURTHER INFORMATION CONTACT: Casey C. Grant, Secretary, Standards Council, NFPA, 1 Batterymarch Park, Quincy, Massachusetts 02269-9101, (617) 770-3000.

SUPPLEMENTARY INFORMATION:

Background

The National Fire Protection Association (NFPA) develops building, fire, and electrical safety codes and standards. Federal agencies frequently use these codes and standards as the basis for developing federal regulations concerning fire safety. Often, the Office of the Federal Register approves the incorporation by reference of these standards under 5 U.S.C. 552(a) and 1 CFR part 51.

Revisions of existing standards and adoption of new standards are reported by the technical committees at the NFPA's November meeting or at the May meeting each year. The NFPA invites public comment on its Report on Proposals.

Request for Comments

Interested persons may participate in these revisions by submitting written data, views, or arguments to Casey C. Grant, Secretary, Standards Council, NFPA, 1 Batterymarch Park, Quincy, Massachusetts 02269-9101. Commenters may use the forms provided for comments in the Reports on Proposals. Each person submitting a comment should include his or her name and address, identify the notice, and give reasons for any recommendations. Comments received on or before April 2, 2004, for the 2004 November Meeting Report on Proposals will be considered by the NFPA before final action is taken on the proposals.

Copies of all written comments received and the disposition of those comments by the NFPA committees will be published as the 2004 November Meeting Report on Comments by September 24, 2004, prior to the November meeting.

A copy of the Report on Comments will be sent automatically to each commenter. Action on the reports of the Technical Committees (adoption or rejection) will be taken at the November meeting, November 13-17, 2004, in Miami Beach, Florida, by NFPA members.

2004 November Meeting—Report on Proposals
NFPA 11 | Standard for Low-, Medium-, and High-Expansion Foam Systems | C
NFPA 11A | Standard for Medium- and High-Expansion Foam Systems | W
NFPA 12 | Standard on Carbon Dioxide Extinguishing Systems | C
NFPA 13E | Recommended Practice for Fire Department Operations in Properties Protected by Sprinkler and Standpipe Systems | C
NFPA 35 | Standard for the Manufacture of Organic Coatings | C
NFPA 50 | Standard for Bulk Oxygen Systems at Consumer Sites | W
NFPA 50A | Standard for Gaseous Hydrogen Systems at Consumer Sites | W
NFPA 50B | Standard for Liquefied Hydrogen Systems at Consumer Sites | W
NFPA 55 | Standard for the Storage, Use, and Handling of Compressed Gases and Cryogenic Fluids in Portable and Stationary Containers, Cylinders, and Tanks | C
NFPA 76 | Recommended Practice for the Fire Protection of Telecommunications Facilities | P
NFPA 92B | Guide for Smoke Management Systems in Malls, Atria, and Large Areas | C
NFPA 99 | Standard for Health Care Facilities | P
NFPA 99B | Standard for Hypobaric Facilities | C
NFPA 99C | Standard on Gas and Vacuum Systems | P
NFPA 110 | Standard for Emergency and Standby Power Systems | P
NFPA 111 | Standard on Stored Electrical Energy Emergency and Standby Power Systems | C
NFPA 214 | Standard on Water-Cooling Towers | C
NFPA 225 | Model Manufactured Home Installation Standard | N
NFPA 326 | Standard for the Safeguarding of Tanks and Containers for Entry, Cleaning, or Repair | C
NFPA 329 | Recommended Practice for Handling Releases of Flammable and Combustible Liquids and Gases | C
NFPA 501 | Standard on Manufactured Housing | P
NFPA 501A | Standard for Fire Safety Criteria for Manufactured Home Installations, Sites, and Communities | P
NFPA 520 | Standard on Subterranean Spaces | C
NFPA 600 | Standard on Industrial Fire Brigades | C
NFPA 601 | Standard for Security Services in Fire Loss Prevention | C
NFPA 720 | Recommended Practice for the Installation of Household Carbon Monoxide (CO) Warning Equipment | C
NFPA 850 | Recommended Practice for Fire Protection for Electric Generating Plants and High Voltage Direct Current Converter Stations | C
NFPA 851 | Recommended Practice for Fire Protection for Hydroelectric Generating Plants | C
NFPA 909 | Code for the Protection of Cultural Resources | C
NFPA 1003 | Standard for Airport Fire Fighter Professional Qualifications | C
NFPA 1035 | Standard for Professional Qualifications for Public Fire and Life Safety Educator | C
NFPA 1192 | Standard on Recreational Vehicles | P
NFPA 1194 | Standard for Recreational Vehicle Parks and Campgrounds | P
NFPA 1410 | Standard on Training for Initial Emergency Scene Operations | C
NFPA 1452 | Guide for Training Fire Service Personnel to Conduct Dwelling Fire Safety Surveys | C
NFPA 1561 | Standard on Emergency Services Incident Management System | C
NFPA 1581 | Standard on Fire Department Infection Control Program | C
NFPA 1936 | Standard on Powered Rescue Tool Systems | C
NFPA 1951 | Standard on Protective Ensemble for USAR Operations | C
NFPA 1977 | Standard on Protective Clothing and Equipment for Wildland Fire Fighting | C
NFPA 1991 | Standard on Vapor-Protective Ensembles for Hazardous Materials Emergencies | C
NFPA 1992 | Standard on Liquid Splash-Protective Ensembles and Clothing for Hazardous Materials Emergencies | C
(P = Partial revision; W = Withdrawal; R = Reconfirmation; N = New; C = Complete Revision)

Dated: November 5, 2003.
Arden L. Bement,
Director.

[FR Doc. 03-28554 Filed 11-13-03; 8:45 am]

BILLING CODE 3510-13-P